DEPARTMENT OF ENERGY

Federal Energy Regulatory Commission

[Project No. 2533-052]

Wausau Paper Mills, City of Brainerd, Public Utilities Commission; Notice of Application for Transfer of License and Soliciting Comments and Motions To Intervene

On December 5, 2013, Wausau Paper Mills (transferor) and City of Brainerd, Public Utilities Commission (transferee) filed an application for transfer of license of the Brainerd Hydroelectric Project located on the Mississippi River, in Crow Wing County, Minnesota.

The transferor and transferee seek Commission approval to transfer the license for the Brainerd Hydroelectric Project from the transferor to the transferee.

Applicant Contacts: For Transferor and Transferee: Ms. Elizabeth W. Whittle, Partner, Nixon Peabody, LLP, 401 Ninth Street NW., Suite 900, Washington, DC 20004, (202) 585-8338, email: ewhittle@nixonpeabody.com. Mr. James M. Strommen, Shareholder, Kennedy & Graven, 470 U.S. Bank Plaza, 200 South 6th Street, Minneapolis, MN 55402, (612) 337-9300, email: jstrommen@kennedy-graven.com.

FERC Contact: Patricia W. Gillis, (202) 502-8735.

Deadline for filing comments and motions to intervene: 30 days from the issuance date of this notice, by the Commission. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street NE., Washington, DC 20426. For more information on how to submit these types of filings please go to the Commission's Web site located at http://www.ferc.gov/filing-comments.asp. More information about this project can be viewed or printed on the eLibrary link of Commission's Web site at http://www.ferc.gov/docs-filing/elibrary.asp. Enter the docket number (P-2533-052) in the docket number field to access the document. For assistance, call toll-free 1-866-208-3372.

Dated: December 30, 2013.
Kimberly D. Bose,
Secretary.

[FR Doc. 2013-31587 Filed 1-6-14; 8:45 am]

BILLING CODE 6717-01-P